SMALL BUSINESS ADMINISTRATION

Public Federal Regulatory Enforcement Fairness Hearing; Region IX Regulatory Fairness Board

The U.S. Small Business Administration (SBA) Region IX Regulatory Fairness Board and the SBA Office of the National Ombudsman will hold a National Regulatory Fairness Hearing on Tuesday, February 5, 2008, at 10 a.m. The forum is open to the public and will take place at the San Francisco Chamber of Commerce Board Room, 235 Montgomery Street, 12th Floor, San Francisco, CA 94104. The purpose of the meeting is for Business Organizations, Trade Associations, Chambers of Commerce and related organizations serving small business concerns to report experiences regarding unfair or excessive Federal regulatory enforcement issues affecting their members.

Anyone wishing to attend or to make a presentation must contact Gary Marshall, in writing or by fax in order to be placed on the agenda. Gary Marshall, Business Development Specialist, SBA, San Francisco District Office, 455 Market Street, 6th Floor, San Francisco, CA 94105-2420, phone (415) 744-6771 and fax (202) 481-2018,e-mail: Gary.marshall@sba.gov.

For more information, see our Web site at www.sba.gov/ombudsman.

Cherylyn H. Lebon,
Committee Management Officer.

[FR Doc. E8-2003 Filed 2-4-08; 8:45 am]

BILLING CODE 8025-01-P